DEPARTMENT OF COMMERCE

National Oceanic and Atmospheric Administration

RIN 0648-XA521

Fisheries of the South Atlantic and Gulf of Mexico; South Atlantic Fishery Management Council; Public Meeting

AGENCY: National Marine Fisheries Service (NMFS), National Oceanic and Atmospheric Administration (NOAA), Commerce.

ACTION: Notice of a public meeting via conference call.

SUMMARY: The South Atlantic Fishery Management Council (SAFMC) will hold a meeting of its Scientific and Statistical Committee (SSC) to discuss the Acceptable Biological Catch (ABC) recommendation for Atlantic Migratory Group Spanish mackerel and assessment priorities for 2013. See SUPPLEMENTARY INFORMATION.

DATES: The meeting will be held on Friday, July 29, 2011, via conference call from 1:30 p.m. to 2:30 p.m. E.D.T. See SUPPLEMENTARY INFORMATION.

ADDRESSES: Listening stations are available at the South Atlantic Fishery Management Council, 4055 Faber Place Drive #201, North Charleston, SC 29405.

FOR FURTHER INFORMATION CONTACT: Kim Iverson, Public Information Officer, 4055 Faber Place Drive, Suite 201, North Charleston, SC 29405; telephone: (843) 571-4366; e-mail: Kim.Iverson@safmc.net.

SUPPLEMENTARY INFORMATION: Under the Magnuson-Stevens Reauthorized Act, the SSC is the body responsible for reviewing the Council's scientific materials. The SSC will discuss an alternative approach to deriving ABC for Atlantic Migratory Group Spanish Mackerel and SEDAR assessment priorities for 2013.

Special Accommodations

The meeting is physically accessible to people with disabilities. Requests for sign language interpretation or other auxiliary aids should be directed to the Council office (see ADDRESSES) at least 3 business days prior to the meeting.

Dated: June 23, 2011.
Tracey L. Thompson,
Acting Director, Office of Sustainable Fisheries, National Marine Fisheries Service.

[FR Doc. 2011-16168 Filed 6-27-11; 8:45 am]

BILLING CODE 3510-22-P